DEPARTMENT OF COMMERCE

National Oceanic and Atmospheric Administration

[I.D. 091405A]

New England Fishery Management Council; Public Meeting

AGENCY: National Marine Fisheries Service (NMFS), National Oceanic and Atmospheric Administration (NOAA), Commerce.

ACTION: Notice of public meeting.

SUMMARY: The New England Fishery Management Council's (Council) Groundfish Oversight Committee will meet to consider actions affecting New England fisheries in the exclusive economic zone (EEZ).

DATES: The meeting will be held on Wednesday, October 5, 2005, from 9 a.m. to 5 p.m.

ADDRESSES: The meeting will be held at the Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

Wednesday, October 5, 2005

The committee will meet to continue development of Framework Adjustment 42 to the Northeast Multispecies Fishery Management Plan. The Committee will review the results of recent groundfish assessments and will consider changes to management measures that may be necessary to achieve Amendment 13 mortality objectives. These changes may include, but are not limited to, changes in days-at-sea, closed areas, possession limits, or gear requirements. Changes may be considered to the regulations for both commercial and recreational vessels. The committee will consider a report from the Groundfish Plan Development Team when developing these alternatives. The Committee's decisions will be forwarded to the Council at a future meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: September 14, 2005.
Alan D. Risenhoover,
Acting Director, Office of Sustainable Fisheries, National Marine Fisheries Service.

[FR Doc. E5-5124 Filed 9-19-05; 8:45 am]

BILLING CODE 3510-22-S